DEPARTMENT OF AGRICULTURE

Rural Housing Service

7 CFR Part 3570

RIN 0575-AD02

Community Facilities Technical Assistance and Training Grant; Correction

AGENCY: Rural Housing Service, USDA.

ACTION: Correcting amendment.

SUMMARY: The Agency published a document in the Federal Register of January 14, 2016 at 81 FR 1861 establishing a technical assistance and training grant program for qualified public bodies, nonprofit corporations, and federally recognized tribes and Indian Tribes on Federal and State Reservations that will serve rural areas for the purpose of enabling the grantees to provide technical assistance and training with respect to essential community facilities authorized under section 306(a)(1) of the CONACT (7 U.S.C. 1926(a)) This document has an incorrect cross-reference and an ineligible project purpose which needs to be removed due to the publication of the new 7 CFR part 1970 regulations.

DATES: Effective May 6, 2016.

FOR FURTHER INFORMATION CONTACT: Requests for additional information should be directed to Nathan Chitwood, (573) 876-0965.

SUPPLEMENTARY INFORMATION:

Need for Correction

As published, the final rule contains an incorrect cross-reference.

In § 3570.264(d) of the final rule, there is an incorrect cross-reference to § 3570.262(c)(4). The correct cross-reference is § 3570.263(a)(4).

As published, the final rule contains a list of Ineligible project purposes on page 1868, column 3. 3570.264(k) reads “Prepare environmental assessments”. Due to the publication of 7 CFR part 1970 in the Federal Register on March 2, 2016, the Agency may now permit program applicants to prepare environmental documentation in certain situations, subject to Agency review and approval. The deletion of “Prepare environmental assessment” is be made in order to be in compliance with 7 CFR part 1970.

List of Subjects in 7 CFR Part 3570

Grant programs—Housing and community development, Reporting requirements, Rural areas, and Technical assistance.

Accordingly, 7 CFR part 3570 is corrected by making the following correcting amendments:

PART 3570—COMMUNITY PROGRAMS

1. The authority citation for part 3570 continues to read as follows:

Authority: 5 U.S.C. 301; 7 U.S.C. 1989.

§ 3570.264 [Amended]

2. Section 3570.264 is amended by:

a. Removing “§ 3570.262(c)(4)” from paragraph (d) and adding in its place “§ 3570.263(a)(4)”.

b. Removing and reserving paragraph (k).

Dated: April 28, 2016.
Tony Hernandez,
Administrator, Rural Housing Service.

[FR Doc. 2016-10636 Filed 5-5-16; 8:45 am]

BILLING CODE 3410-XV-P